DEPARTMENT OF HOUSING AND URBAN DEVELOPMENT

[Docket No. FR-5382-N-10]

Notice of Proposed Information Collection for Public Comment: Disaster Assistance Program Incremental Rent Transition Study

AGENCY: Office of Policy Development and Research, HUD.

ACTION: Notice.

SUMMARY: The proposed information collection requirement described below will be submitted to the Office of Management and Budget (OMB) for review, as required by the Paperwork Reduction Act. The Department is soliciting public comments on the subject proposal.

DATES: Comment Due Date: July 6, 2010.

ADDRESSES: Interest persons are invited to submit comments regarding this proposal. Comments should refer to the proposal by name and should be sent to: Reports Liaison Officer, Office of Policy Development and Research, Department of Housing and Urban Development, 451 7th Street, SW., Room 8234, Washington, DC 20410.

FOR FURTHER INFORMATION CONTACT: Marina Myhre, PhD, Department of Housing and Urban Development, 451 7th Street, SW., Washington, DC 20410; telephone (202) 402-5705 (this is not a toll-free number). Copies of the proposed data collection and other available documents may be obtained from Dr. Myhre.

SUPPLEMENTARY INFORMATION: This Notice is soliciting comments from members of the public and affecting agencies concerning the proposed collection of information to: (1) Evaluate whether the proposed collection of information is necessary for the proper performance of the functions of the agency, including whether the information will have practical utility; (2) evaluate the accuracy of the agency's estimate of the burden of the proposed collection of information; (3) enhance the quality, utility, and clarity of the information to be collected; and (4) minimize the burden of the collection of information on those who are to respond; including through the use of appropriate automated collection techniques or other forms of information technology, such as permitting electronic submission of responses.

Title of Proposal: Disaster Assistance Program Incremental Rent Transition Study.

Description of the need for the information and proposed use: To assist households displaced by Hurricane Katrina in 2005, the Disaster Housing Assistance Program (DHAP) was implemented to provide rental assistance and case management services to eligible displaced families from September 1, 2007, through February 28, 2009. DHAP was implemented in phases, and the type and terms of rental assistance varied over time. DHAP presents a unique opportunity to track families transitioning from stepped-down rental subsidies (i.e., starting with a full subsidy of rent and then decreasing it by $50 per month) or a full rental subsidy (i.e., a full subsidy—$0 rent) to market rate or alternative housing assistance programs and to measure their outcomes over time.

The U.S. Department of the Housing and Urban Development (HUD) is conducting an outcome evaluation entitled the Disaster Housing Assistance Program (DHAP) Incremental Rent Transition (IRT) Study. This study represents an important opportunity for HUD to learn about rent-setting strategies and case management services in a post-disaster housing program. The results of this study will feed into decisions about how HUD should operate such programs after future disasters. In particular, this study will increase HUD's understanding of how to structure and scale down voucher rent systems and the accompanying case management services following a disaster.

The data collection effort for the DHAP IRT Study initially involved a baseline survey conducted under OMB control number 2528-0256. Approximately 1,430 DHAP participants responded to the baseline survey. Respondents were contacted in January-February 2010 to update their contact information under the same OMB control number.

A 12-month follow-up survey of respondents to the baseline survey is planned for fall 2010 and is the subject of this notice. The survey will collect data on participants' housing employment, income, and savings/debt outcomes approximately 12 to 15 months after they transitioned off DHAP assistance. The survey also will ask about participants' experiences with the alternative strategies employed by participating public housing authorities (PHAs) for providing case management to help households with the recovery process. The information collected through these surveys will be supplemented by administrative data on participant characteristics and program services (including rental assistance and case management) collected during program operation. The participant survey will take approximately 40 minutes per respondent to complete.

Members of affected public: The data collection effort for the DHAP IRT Study initially involved a baseline survey conducted under OMB control number 2528-0256. Approximately 1,430 DHAP participants responded to the baseline survey. Respondents were contacted in January-February 2010 to update their contact information under the same OMB control number.

Estimation of the total number of hours needed to prepare the information collection, including the number of respondents, frequency of response, and hours of response: The researchers will survey 1,430 participants in all; the surveys are expected to last 40 minutes. This constitutes a total burden hour estimate of 958 burden hours.

Status of the proposed information collection: Pending OMB approval.

Authority: Section 3506 of the Paperwork Reduction Act of 1995, 44 U.S.C. Chapter 35, as amended.

Dated: April 20, 2010.
Raphael W. Bostic,
Assistant Secretary for Policy Development and Research, R .

[FR Doc. 2010-10687 Filed 5-5-10; 8:45 am]

BILLING CODE 4210-67-P